DEPARTMENT OF THE INTERIOR

National Park Service

National Landmarks Committee of the National Park System Advisory Board; Meeting

AGENCY: National Park Service, Department of the Interior.

ACTION: Notice of meeting.

SUMMARY: Notice is hereby given in accordance with the Federal Advisory Commission Act that a meeting of the National Landmarks Committee of the National Park System Advisory Board will be held at 9 a.m. on the following dates and at the following location.

DATE: September 10-September 11, 2003

LOCATION: The Ann Pamela Cunningham Building, Mount Vernon, Mount Vernon, Virginia 22121

FOR FURTHER INFORMATION CONTACT: Patricia Henry, National Historic Landmarks Survey, National Register, History, and Education, National Park Service, 1849 C Street, NW., MS 2280; Washington, DC 20240. Telephone (202) 354-2216.

SUPPLEMENTARY INFORMATION: The purpose of the meeting of the National Landmarks Committee of the National Park System Advisory Board is to evaluate nominations of historic properties in order to advise the full National Park System Advisory Board of the qualifications of properties being proposed for National Historic Landmark (NHL) designation, and to recommend to the National Park System Advisory Board those properties that the Landmarks Committee finds meet the criteria for designation as National Historic Landmarks. The members of the National Landmarks Committee are:

Dr. Janet Snyder Matthews, CHAIR

Dr. Allyson Brooks

Dr. Ian W. Brown

Mr. S. Allen Chambers, Jr.

Dr. Elizabeth Clark-Lewis

Dr. Bernard L. Herman

Professor E.L. Roy Hunt

Ms. Paula J. Johnson

Mr. Jerry L. Rogers

Dr. Richard Guy Wilson

The meeting will include presentations and discussions on the national historic significance and the historic integrity of a number of properties being nominated for National Historic Landmark designation. The meeting will be open to the public. However, facilities and space for accommodating members of the public are limited. Any member of the public may file for consideration by the committee written comments concerning nominations and matters to be discussed pursuant to 36 CFR Part 65.

Comments should be submitted to Carol D. Shull, Chief, National Historic Landmarks Survey and Keeper of the National Register of Historic Places; National Register, History, and Education (2280); National Park Service; 1849 C Street, NW., MS 2280; Washington, DC 20240.

The committee will consider the following nominations:

Alabama

Foster Auditorium, Sixth Avenue, Tuscaloosa

Kenworthy Hall, N Side Greensboro Hwy. (AL 14), 2.0 miles W of courthouse square, Marion, Perry County

Arizona

Navajo Nation Council Chamber, W008-013 Circle Boulevard, Window Rock, Apache County

Sage Memorial Hospital School of Nursing, Intersection Highways 264 and 191, Ganado, Apache County

California

Swedenborgian Church, 3200 Washington Street, San Francisco

Colorado

United States Air Force Academy, Cadet Area, Roughly between Cadet Drive and Faculty Drive, El Paso County

Illinois

Isidore Heller House, 5132 Woodlawn Avenue, Chicago, Cook County

Louisiana

Rosedown Plantation, U.S. Hwy. 61 and LA Hwy. 10, St. Francisville, West Feliciana County

Mississippi

Eudora Welty House, 1119 Pinehurst Street, Jackson, Hinds County

New York

Camp Pine Knot, Raquette Lake, Town of Long Lake, Hamilton County

Eagle Island Camp, Eagle Island, Upper Saranac Lake, Town of Santa Clara, Franklin County

Oklahoma

Honey Springs Battlefield, 1863 Honey Springs Battlefield Road, Checotah, McIntosh/Muskogee County

Wisconsin

First Unitarian Society Meeting House, 900 University Bay Drive, Village of Shorewood Hills, Dane County

The Committee will also consider the following boundary adjustments, additional documentation and withdrawals of designation:

California

First Pacific Coast Salmon Cannery Site (withdrawal), On the Sacramento River opposite the foot of K St., Broderick, Yolo County

Dated: June 20, 2003.
Carol D. Shull,
Chief, National Historic Landmarks Survey and Keeper of the National Register of Historic Places; National Park Service, Washington, DC.

[FR Doc. 03-17265 Filed 7-8-03; 8:45 am]

BILLING CODE 4312-51-P